DEPARTMENT OF COMMERCE

International Trade Administration

[A-570-875]

Non-Malleable Cast Iron Pipe Fittings From the People's Republic of China: Notice of Court Decision Not in Harmony With the Final Results of Scope Ruling

AGENCY: Enforcement and Compliance, International Trade Administration, Department of Commerce.

SUMMARY: On March 6, 2024, the U.S. Court of International Trade (CIT) issued its final judgment in Star Pipe Products v. United States and ASC Engineered Solutions LLC., Court No. 17-00236, Slip Op. 24-28 (CIT March 6, 2024) (Star Pipe Slip Op. 24-28), sustaining the final remand results, of the U.S. Department of Commerce (Commerce), pertaining to the final scope ruling on certain non-malleable cast iron pipe fittings (pipe fittings) from the People's Republic of China (China). Commerce is therefore amending its Final Scope Ruling to find that ductile iron flanges exported by Star Pipe Products (Star Pipe) are not within the scope of the antidumping (AD) order on pipe fittings from China. Commerce is also notifying the public that the CIT's final judgment is not in harmony with the Final Scope Ruling.

DATES: Applicable March 16, 2024.

FOR FURTHER INFORMATION CONTACT: Maisha Cryor, AD/CVD Operations, Office IV, Enforcement and Compliance, International Trade Administration, U.S. Department of Commerce, 1401 Constitution Avenue NW, Washington, DC 20230; telephone: (202) 482-5831.

SUPPLEMENTARY INFORMATION:

Background

On August 17, 2017, Commerce issued its Final Scope Ruling on pipe fittings from China.¹ In its Final Scope Ruling, Commerce found that Star Pipe's ductile iron flanges were within the scope of the AD order ² on pipe fittings from China.³ Star Pipe appealed Commerce's Final Scope Ruling. During the course of litigation, the CIT issued several remand orders culminating in Star Pipe Products v. United States and ASC Engineered Solutions, LLC, Court No. 17-00236, Slip Op. 22-127 (November 18, 2022) (Star Pipe IV). In Star Pipe IV, the CIT directed Commerce to issue a new determination, in a form that would go into effect if sustained upon judicial review, determining whether Star Pipe's ductile iron flanges are within the scope of the Order.⁴ Pursuant to the CIT's instructions, on remand, and under respectful protest, on December 16, 2022, Commerce found that Star Pipe's ductile iron flanges are outside the scope of the Order.⁵ On March 6, 2024, the CIT sustained Commerce's Fourth Remand Redetermination.⁶

¹ See “Final Scope Ruling on the Antidumping Duty Order on Non-Malleable Cast Iron Pipe Fittings from the People's Republic of China: Request by Star Pipe Products,” dated August 17, 2017 (Final Scope Ruling).

² See Notice of Antidumping Duty Order: Non-Malleable Cast Iron Pipe Fittings from the People's Republic of China, 68 FR 16765 (April 7, 2003) (Order).

³ See Final Scope Ruling.

⁴ See Star Pipe IV at 3 and 15-18.

⁵ See Final Results of Redetermination Pursuant to Court Remand, Star Pipe Products v. United States and Anvil International, Court No. 17-00236, Slip Op. 22-127, dated December 16, 2022 (Fourth Remand Redetermination), available at https://access.trade.gov/Resources/remands/22-127.pdf.

⁶ See Star Pipe Slip Op. 24-28.

Timken Notice

In its decision in Timken,⁷ as clarified by Diamond Sawblades,⁸ the U.S. Court of Appeals for the Federal Circuit held that, pursuant to section 516A(c) and (e) of the Tariff Act of 1930, as amended (the Act), Commerce must publish a notice of a court decision that is not “in harmony” with a Commerce determination and must suspend liquidation of entries pending a “conclusive” court decision. The CIT's March 6, 2024, judgment constitutes a final decision of the CIT that is not in harmony with Commerce's final scope ruling. This notice is published in fulfillment of the publication requirements of Timken.

⁷ See Timken Co. v. United States, 893 F.2d 337 (Fed. Cir. 1990) (Timken).

⁸ See Diamond Sawblades Mfrs. Coal. v. United States, 626 F.3d 1374 (Fed. Cir. 2010) (Diamond Sawblades).

Amended Final Scope Ruling

There is now a final scope decision with respect to the Star Pipe Final Scope Ruling. Therefore, Commerce is amending its Final Scope Ruling and finds that the scope of the Order does not cover the products addressed in the Star Pipe Final Scope Ruling. The period to appeal the CIT's ruling expires on May 6, 2024. Commerce will instruct U.S. Customs and Border Protection (CBP) that, pending any appeals, the cash deposit rate will be zero percent for entries of Star Pipe's ductile iron flanges from China. In accordance with the CIT's order sustaining Commerce's Fourth Remand Redetermination, Commerce intends to, with the publication of this notice, issue instructions to CBP to lift suspension of liquidation of such entries, and to liquidate entries of the ductile iron flanges without regard to antidumping duties, with consideration for any potential appeal of the CIT's final judgement.

Notification to Interested Parties

This notice is issued and published in accordance with sections 516A(c)(1) and (e), of the Act.

Dated: March 28, 2024.
Abdelali Elouaradia,
Deputy Assistant Secretary for Enforcement and Compliance.

[FR Doc. 2024-07075 Filed 4-2-24; 8:45 am]

BILLING CODE 3510-DS-P